DEPARTMENT OF HEALTH AND HUMAN SERVICES

National Institutes of Health

Submission to OMB, Comment Request; An Outcome Evaluation of the NIH Director's Pioneer Award (NDPA) Program

SUMMARY: Under the provisions of Section 3507(a)(1)(D) of the Paperwork Reduction Act of 1995, the Office of the Director, National Institutes of Health (NIH), has submitted to the Office of Management and Budget (OMB) a request for review and approval of the information collection listed below. The National Institutes of Health may not conduct or sponsor, and the respondent is not required to respond to, an information collection that has been extended, revised, or implemented on or after October 1, 1995, unless it displays a currently valid OMB control number.

Proposed Collection: Title: An Outcome Evaluation of the NIH Director's Pioneer Award (NDPA) Program. Type of Information Collection Request: New collection. Need and Use of Information Collection: This study will assess the NDPA Program outputs and outcomes. The primary objectives of the study are to assess: (1) Whether the NDPA awardees are conducting pioneering research, (2) whether there are spillover effects on the awardees, their lab members, NIH, and the scientific community, and (3) to follow the careers and ideas proposed by NDPA unfunded applicants. The findings will provide valuable information concerning the success of the awardees (pioneers) and whether the characteristics of the NDPA program are adopted by other NIH programs.

Frequency of Response: Once. Affected Public: none. Type of Respondents: Applicants, Unfunded Applicants, Pioneer Lab Members, Focus Group Panelists. There are no Capital Costs to report. Estimated Number of Respondents: 50, Estimated Number of Responses per Respondent: 1: Average Burden Hours Per Response: 2.14 (60 minutes for awardees, 15 minutes for unfunded applicants, 30 minutes for pioneer lab members, and 10 hours for focus group panelists). Estimated Total Annual Burden Hours Requested: 284.5 and the annualized cost to respondents is estimated at $18,181.72. Table l and Table 2, respectively, present data concerning the burden hours and cost burdens for this data collection.

Table 1—Annualized Estimate of Hour Burden
Type of respondents | Number of respondents | Frequency of response | Average time for response (hr) | Total hour burden*
Awardees (Pioneers) | 22 | 1 | 1.0 | 22.0
Unfunded Applicants | 440 | 1 | 0.25 | 110.0
Pioneer Lab Members | 25 | 1 | 0.5 | 12.5
Expert Panel | 14 | 1 | 10.0 | 140.0
Total | 501 | 1 | .56 | 284.5
Total Burden = N Respondents*Response Frequency*(minutes to complete/60).

Table 2—Annualized Cost to Respondents
Type of respondents | Number of respondents | Response frequency | Approx. hourly wage rate | Total respondent cost**
Awardees | 22 | 1 | $64.72 | $1,423.84
Unfunded Applicants | 440 | 1 | 64.72 | 7119.20
Pioneer Lab Members | 25 | 1 | 46.23 | 577.88
Focus Group Panel | 14 | 1 | 64.72 | 9,060.80
Total | 501 | 1 | 63.59 | 18,181.72
**Total Respondent Cost = Total Hour Burden * Hourly Wage Rate.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs (OIRA). All comments should be sent via email to OIRA_submission@omb.eop.gov or by fax to 202-395-6974. Attention: Desk Office for NIH. To request more information on the project or to obtain a copy of the data collection plans and instruments contact G. Stephane Philogene, Ph.D., Assistant Director for Policy and Planning, Office of Behavioral and Social Sciences Research, National Institutes of Health, 31 Center Drive. Building 31, Room B2-B37 Bethesda, MD 20892, or call non-toll-free number (301) 402-3902 or E-mail your request, including your address to: philoges@od.nih.gov.

Comments Due Date: Comments regarding this information collection are best assured of having their full effect if received within 30-days of the date of this publication.

Dated: July 9, 2009.
G. Stephane Philogene,
Assistant Director for Policy and Planning, Office of Behavioral and Social Sciences Research, National Institutes of Health.

[FR Doc. E9-16835 Filed 7-15-09; 8:45 am]

BILLING CODE 4140-01-P